JUDICIAL CONFERENCE OF THE UNITED STATES

Hearing of The Judicial Conference Committee on Criminal Rules

AGENCY: Judicial Conference of the United States Advisory Committee on Criminal Rules.

ACTION: Notice of Cancellation of Open Hearing.

SUMMARY: The following public hearing on proposed amendments to the Federal Rules of Criminal Procedure, has been canceled: Criminal Rules Hearing, January 5, 2011, I San Francisco, CA

FOR FURTHER INFORMATION CONTACT: Peter G. McCabe, Secretary, Rules Committee Support Office, Administrative Office of the United States Courts, Washington, DC 20544, telephone (202) 502-1820.

Dated: December 21, 2010.
Peter G. McCabe,
Rules Committee Support Office.

[FR Doc. 2010-32415 Filed 12-27-10; 8:45 am]

BILLING CODE 2210-55-M